DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 18, 2009.

FOR FURTHER INFORMATION CONTACT: Ms. Anna Millikan, Program Analyst, National Public Liaison, CL:NPL, 7559, 1111 Constitution Avenue, NW., Washington, DC 20224. Telephone: 202-622-6433 (not a toll-free number). E-mail address: *public_liaison@irs.gov.

SUPPLEMENTARY INFORMATION: Notice is hereby given pursuant to section 10(a)(2) of the Federal Advisory Committee Act, 5 U.S.C. App. (1988), a public meeting of the IRSAC will be held on Wednesday, November 18, 2009, from 9 a.m. to 1 p.m. at the Embassy Suites DC Convention Center Hotel, 900 10th Street, NW., Capital Room C/D, Washington, DC 20001. Issues to be discussed include: Training (“just-in-time”) for technical employees, Enterprise Compliance Audits, Automated Collection System (ACS) Telephone Navigation, Use of the Interactive Tax Law Tool on IRS.gov by Taxpayers, Publication 590, Individual Retirement Account (IRAs), Enhancing Voluntary Compliance through Civil Tax Penalty Reform, Offer in Compromise Refinements, Circular 230 Applicability to Appraisers, and Enrolled Agent Look-up Feature. Reports from the four IRSAC sub-groups, Large and Mid-size Business, Small Business/Self-Employed, Wage & Investment, and Office of Professional Responsibility will also be presented and discussed. Last minute agenda changes may preclude advanced notice. The meeting room accommodates approximately 80 people, IRSAC members and Internal Revenue Service officials inclusive. Due to limited seating, please call Anna Millikan to confirm your attendance. Ms. Millikan can be reached at 202-622-6433. Attendees are encouraged to arrive at least 30 minutes before the meeting begins. Should you wish the IRSAC to consider a written statement, please call 202-622-6433, or write to: Internal Revenue Service, Office of National Public Liaison, CL:NPL:7559, 1111 Constitution Avenue, NW., Washington, DC 20224 or e-mail: *public_liaison@irs.gov.

Dated: October 28, 2009.
Carl Medley,
Designated Federal Official, Branch Chief, Liaison/Tax Forum Branch.

[FR Doc. E9-26640 Filed 11-4-09; 8:45 am]

BILLING CODE 4830-01-P